DEPARTMENT OF THE TREASURY

31 CFR Part 1

Privacy Act; Implementation

AGENCY: Internal Revenue Service, Treasury.

ACTION: Interim final rule.

SUMMARY: In accordance with the requirements of the Privacy Act of 1974, as Amended, the Department of the Treasury gives notice of an amendment to this part by revising the titles of two Privacy Act systems of records and removing five other Privacy Act systems of records. The systems of records are related to the functions of the Internal Revenue Service (IRS), Office of Professional Responsibility (OPR).

DATES: Effective Date: January 2, 2007. Comments must be received no later than January 2, 2007. You may also submit comments through the Federal rulemaking portal at http://www.regulations.gov (follow the instructions for submitting comments).

ADDRESSES: Comments should be sent to the Office of Governmental Liaison and Disclosure, IRS, 1111 Constitution Avenue, NW., Washington, DC 20224. To arrange to see the comments, see FOR FURTHER INFORMATION CONTACT below.

FOR FURTHER INFORMATION CONTACT: Earl Prater, Senior Counsel, OPR, at (202) 874-5936, or for voice mail, (202) 622-8018 (not toll free numbers).

SUPPLEMENTARY INFORMATION: The IRS is proposing to simplify the administration of OPR's Privacy Act systems of records by consolidating the current 11 OPR systems. A proposed notice to revise and consolidate the Privacy Act systems of records maintained by the OPR will be published separately in the Federal Register. The proposed notice to alter OPR's current 11 systems of records will consolidate all records into the three revised systems of records: Treasury/IRS 37.006—Correspondence, Miscellaneous Records, and Information Management Records; Treasury/IRS 37.007—Practitioner Disciplinary Records; and Treasury/IRS 37.009—Enrolled Agent Records.

This realignment of the records being maintained by OPR will permit more precise expression of the data elements and will permit the published notices to serve more effectively as guides for the public in understanding how OPR collects, maintains, discloses, and uses these individually identifiable records.

Currently, seven of those Privacy Act systems of records are exempt from provisions of the Privacy Act pursuant to 5 U.S.C. 552a(k)(2). Under 5 U.S.C. 552a(k)(2), the head of an agency may promulgate rules to exempt a system of records from certain provisions of 5 U.S.C. 552a if the system contains investigatory material compiled for law enforcement purposes. The purpose of the interim final rule is to revise the inventory of OPR systems of records for which an exemption is claimed pursuant to 5 U.S.C. 552a(k)(2) as found in paragraph (g)(viii) of this part to reflect the proposed revision and consolidation of those systems. No new exemptions are being proposed.

This action removes the following five systems of records from the paragraph (g)(1)(viii) of Section 1.36:

Number | Name of system
IRS 37.002 | Files containing derogatory information about individuals whose applications for enrollment to practice before the IRS have been denied and applicant appeal files. [formerly known as “Applicant Appeal Files”]
IRS 37.003 | Closed files containing derogatory information about individuals' practice before the Internal Revenue Service and files of attorneys and certified public accountants formerly enrolled to practice.
IRS 37.004 | Derogatory information (No Action).
IRS 37.005 | Present suspensions and disbarments resulting from administrative proceeding.
IRS 37.011 | Present suspensions from practice before the Internal Revenue Service.

The action also amends Section 1.36 by revising the title of two systems of records listed in Paragraph (g)(1)(viii) from “IRS 37.007—Inventory” to “IRS 37.007—Practitioner Disciplinary Records,” and from “IRS 37.009—Enrolled Agents and Resigned Enrolled Agents (Action pursuant to 31 CFR 10.55(b))” to “IRS 37.009—Enrolled Agent Records.”

These regulations are being published as an interim final rule because the amendments do not impose any requirements on any member of the public. These amendments are the most efficient means for the Treasury Department to implement its internal requirements for complying with the Privacy Act.

Accordingly, pursuant to 5 U.S.C. 553(b)(B) and (d)(3), the Department of the Treasury finds good cause that prior notice and other public procedures with respect to this rule are unnecessary, and good cause for making this interim final rule effective 30 days after publication in the Federal Register.

Pursuant to Executive Order 12866, it has been determined that this interim final rule is not a significant regulatory action, and therefore, does not require a regulatory impact analysis.

Because no notice of proposed rulemaking is required, the provisions of the Regulatory Flexibility Act, 5 U.S.C. 601-612, do not apply.

List of Subjects in 31 CFR Part 1

Privacy.

Part 1, subpart C of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. Section 1.36, paragraph (g)(1)(viii) is amended by removing from the table entries IRS 37.002, 37.003, 37.004, 37.005 and 37.011. Paragraph (g)(1)(viii) is further amended by removing from IRS 37.007, “Inventory” and adding in its place, “Practitioner Disciplinary Records” and by removing from IRS 37.009, “Resigned Enrolled Agents (action pursuant to 31 CFR 10.55(b))” and adding in its place, “Enrolled Agents Records” to read as follows:

§ 1.36 Systems exempt in whole or in part from provisions of 5 U.S.C. 552a and this part.

* * * * *

(g) * * *

(1) * * *

(viii) * * *

Number | Name of system
* * * * * * *
IRS 37.007 | Practitioner Disciplinary Records
IRS 37.009 | Enrolled Agent Records
* * * * * * *

* * * * *

Dated: October 24, 2006.
Sandra L. Pack,
Assistant Secretary for Management and Chief Financial Officer.

[FR Doc. E6-20384 Filed 11-30-06; 8:45 am]

BILLING CODE 4830-01-P